DEPARTMENT OF JUSTICE

Antitrust Division

Notice Pursuant to the National Cooperative Research and Production Act of 1993—Maritime Sustainment Technology and Innovation Consortium

Notice is hereby given that, on January 10, 2025, pursuant to section 6(a) of the National Cooperative Research and Production Act of 1993, 15 U.S.C. 4301 et seq. (“the Act”), Maritime Sustainment Technology and Innovation Consortium (“MSTIC”) has filed written notifications simultaneously with the Attorney General and the Federal Trade Commission disclosing changes in its membership. The notifications were filed for the purpose of extending the Act's provisions limiting the recovery of antitrust plaintiffs to actual damages under specified circumstances. Specifically, Amaero Advanced Materials and Manufacturing, Inc., McDonald, TN; Arctech Charge LLC, Draper, UT; Authentise, Inc., Philadelphia, PA; Carnegie Mellon University, Pittsburgh, PA; Cenith Innovations LLC, Sacramento, CA; Emerging Technology Ventures, Inc., Alamogordo, NM; Eoptic, Inc., Rochester, NY; Innovative Technologies International, Inc., Lynchburg, VA; ITI Engineering LLC, Winter Springs, FL; Katz Water Technologies, Inc., Houston, TX; Mavericks Manufacturing Partners LLC, Escondido, CA; Merge Plot LLC, Bala Cynwyd, PA; Mobilio Co., San Francisco, CA; Siemens Energy Inc.—Division Additive Manufacturing, Orlando, FL; Texas Research Institute Austin, Inc., Austin, TX; TrellisWare Technologies, Inc., San Diego, CA; and Viewpoint Systems, Inc., Rochester, NY, have been added as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on October 10, 2024. A notice was published in the Federal Register pursuant to section 6(b) of the Act on December 20, 2024 (89 FR 104213).

Suzanne Morris,
Deputy Director Civil Enforcement Operations, Antitrust Division.

[FR Doc. 2025-03213 Filed 2-27-25; 8:45 am]

BILLING CODE P